DEPARTMENT OF ENERGY

Federal Energy Regulatory Commission

Combined Notice of Filings #2

Take notice that the Commission received the following electric rate filings:

Docket Numbers: ER24-2557-001; ER24-2559-001.

Applicants: Malaga BESS LLC, Henrietta BESS LLC.

Description: Notice of Non-Material Change in Status of Henrietta BESS LLC, et al.

Filed Date: 1/31/25.

Accession Number: 20250131-5514.

Comment Date: 5 p.m. ET 2/21/25.

Docket Numbers: ER25-651-000.

Applicants: PJM Interconnection, L.L.C.

Description: Report Filing: Supplement to GIA, SA No. 7419; AF2-032 in Docket No. ER25-651-000 to be effective N/A.

Filed Date: 1/30/25.

Accession Number: 20250130-5252.

Comment Date: 5 p.m. ET 2/20/25.

Docket Numbers: ER25-835-001.

Applicants: Golden Spread Electric Cooperative, Inc.

Description: Tariff Amendment: WPC Amendments Ex B Formula Rate Template to be effective 1/1/2025.

Filed Date: 2/3/25.

Accession Number: 20250203-5064.

Comment Date: 5 p.m. ET 2/24/25.

Docket Numbers: ER25-934-001.

Applicants: San Juan Solar 1, LLC.

Description: Tariff Amendment: Amendment to Filing of Revised Rate Schedule and Request for Waivers to be effective 1/16/2025.

Filed Date: 2/3/25.

Accession Number: 20250203-5129.

Comment Date: 5 p.m. ET 2/24/25.

Docket Numbers: ER25-1129-000.

Applicants: LS Power Grid California, LLC.

Description: 205(d) Rate Filing: LS Power Grid CA TRBAA Filing to be effective 3/1/2025.

Filed Date: 1/31/25.

Accession Number: 20250131-5369.

Comment Date: 5 p.m. ET 2/21/25.

Docket Numbers: ER25-1130-000.

Applicants: Southwest Power Pool, Inc.

Description: 205(d) Rate Filing: 2956R2 American Electric Power NITSA and NOA to be effective 1/1/2025.

Filed Date: 1/31/25.

Accession Number: 20250131-5470.

Comment Date: 5 p.m. ET 2/21/25.

Docket Numbers: ER25-1137-000.

Applicants: Southwest Power Pool, Inc.

Description: 205(d) Rate Filing: Submission of Revisions to WEIS Tariff Regarding Market Holds to be effective 4/5/2025.

Filed Date: 2/3/25.

Accession Number: 20250203-5085.

Comment Date: 5 p.m. ET 2/24/25.

Docket Numbers: ER25-1138-000.

Applicants: PJM Interconnection, L.L.C.

Description: 205(d) Rate Filing: Original GIA, SA No. 7508; Project Identifier No. AF1-091 to be effective 1/3/2025.

Filed Date: 2/3/25.

Accession Number: 20250203-5105.

Comment Date: 5 p.m. ET 2/24/25.

Docket Numbers: ER25-1139-000.

Applicants: PJM Interconnection, L.L.C.

Description: 205(d) Rate Filing: Amended WMPA, Service Agreement No. 5989; AF1-217 to be effective 4/5/2025.

Filed Date: 2/3/25.

Accession Number: 20250203-5116.

Comment Date: 5 p.m. ET 2/24/25.

Docket Numbers: ER25-1140-000.

Applicants: Electra Sparks, LLC.

Description: Notice of Cancellation of Market-Based Rate Tariff of Electra Sparks, LLC.

Filed Date: 1/30/25.

Accession Number: 20250130-5286.

Comment Date: 5 p.m. ET 2/20/25.

Docket Numbers: ER25-1141-000.

Applicants: PJM Interconnection, L.L.C.

Description: 205(d) Rate Filing: Original GIA Service Agreement No. 7507; Project Identifier #AF2-024 to be effective 1/2/2025.

Filed Date: 2/3/25.

Accession Number: 20250203-5150.

Comment Date: 5 p.m. ET 2/24/25.

Docket Numbers: ER25-1142-000.

Applicants: PJM Interconnection, L.L.C.

Description: 205(d) Rate Filing: Original GIA, SA No. 7513; Project Identifier No. AE2-136 to be effective 1/3/2025.

Filed Date: 2/3/25.

Accession Number: 20250203-5154.

Comment Date: 5 p.m. ET 2/24/25.

Docket Numbers: ER25-1143-000.

Applicants: Pacific Gas and Electric Company.

Description: Notice of Termination of Service Agreement No. 266 under FERC Electric Tariff Volume No. 5 of Pacific Gas and Electric Company.

Filed Date: 1/31/25.

Accession Number: 20250131-5504.

Comment Date: 5 p.m. ET 2/21/25.

Docket Numbers: ER25-1144-000.

Applicants: PJM Interconnection, L.L.C.

Description: 205(d) Rate Filing: Original GIA, Service Agreement No. 7506; AF2-366 to be effective 1/2/2025.

Filed Date: 2/3/25.

Accession Number: 20250203-5161.

Comment Date: 5 p.m. ET 2/24/25.

Docket Numbers: ER25-1146-000.

Applicants: Midcontinent Independent System Operator, Inc.

Description: 205(d) Rate Filing: 2025-02-03_Citizen's Electric Integration Attachment FF-3 & FF-4 to be effective 4/5/2025.

Filed Date: 2/3/25.

Accession Number: 20250203-5191.

Comment Date: 5 p.m. ET 2/24/25.

Docket Numbers: ER25-1147-000.

Applicants: Southwest Power Pool, Inc.

Description: 205(d) Rate Filing: Revisions to Clarify Calculation of Mitigated Regulation Service Offers (RR 648) to be effective 4/7/2025.

Filed Date: 2/3/25.

Accession Number: 20250203-5194.

Comment Date: 5 p.m. ET 2/24/25.

Docket Numbers: ER25-1148-000.

Applicants: PJM Interconnection, L.L.C.

Description: 205(d) Rate Filing: Original GIA Service Agreement No. 7477; Project Identifier No. AF2-019 to be effective 1/2/2025.

Filed Date: 2/3/25.

Accession Number: 20250203-5200.

Comment Date: 5 p.m. ET 2/24/25.

Take notice that the Commission received the following electric securities filings:

Docket Numbers: ES25-25-000.

Applicants: RE Papago PV LLC.

Description: Amendment to Application Under Section 204 of the Federal Power Act for Authorization to Issue Securities of RE Papago PV LLC.

Filed Date: 1/31/25.

Accession Number: 20250131-5512.

Comment Date: 5 p.m. ET 2/7/25.

Docket Numbers: ES25-31-000.

Applicants: Jersey Central Power & Light Company.

Description: Application Under Section 204 of the Federal Power Act for Authorization to Issue Securities of Jersey Central Power & Light Company.

Filed Date: 1/30/25.

Accession Number: 20250130-5281.

Comment Date: 5 p.m. ET 2/20/25.

Docket Numbers: ES25-32-000.

Applicants: El Paso Electric Company.

Description: Application Under Section 204 of the Federal Power Act for Authorization to Issue Securities of El Paso Electric Company.

Filed Date: 1/31/25.

Accession Number: 20250131-5496.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 3, 2025.
Carlos D. Clay,
Deputy Secretary.

[FR Doc. 2025-02366 Filed 2-6-25; 8:45 am]

BILLING CODE 6717-01-P